NUCLEAR REGULATORY COMMISSION

[Docket No. 70-143]

Notice of Issuance of License Amendment 39 for Nuclear Fuel Services, Inc., Blended Low-enriched Uranium Project Uranyl Nitrate Building

ACTION: Notice of issuance of Amendment 39 to Materials License SNM-124.

FOR FURTHER INFORMATION CONTACT: Mary Adams, Fuel Cycle and Safety Branch, Office of Nuclear Materials, Safety and Safeguards, 11554 Rockville Pike, Rockville, MD 20852; telephone (301) 415-7249; or by e-mail at mta@nrc.gov.

SUPPLEMENTARY INFORMATION: Pursuant to 10 CFR 2.106, the U.S. Nuclear Regulatory Commission (NRC) is noticing the issuance of Amendment 39 to Special Nuclear Material License SNM-124, held by Fuel Services, Inc., (NFS) to authorize: (1) The receipt and storage of low-enriched uranyl nitrate solution in a new uranyl nitrate storage building and (2) the possession and use of an increased quantity of special nuclear material at the NFS facility located in Erwin, TN.

This amendment complies with the standards and requirements of the Atomic Energy Act of 1954 as amended, and NRC's rules and regulations as set forth in 10 CFR chapter 1. Accordingly, this amendment was issued on July 7, 2003, and is effective immediately.

NRC prepared a non-proprietary (public) version of the Safety Evaluation Report (SER) that documents the information that was reviewed and NRC's conclusions. This SER is included in the license amendment package which is available electronically for public inspection and copying for a fee in the NRC Public Document Room, One White Flint North Building, 11555 Rockville, MD 20852, or from the Publicly Available Records (PARS) component of NRC's Agency-wide Documents Access and Management System (ADAMS) under accession number ML031890762. ADAMS is accessible from the NRC Web site at http://www.nrc.gov/reading-rm/adams.html (the Public Electronic Reading Room). If you do not have access to ADAMS, or if there are problems accessing the documents located in ADAMS, contact the NRC Public Document Room Reference staff at 1-800-397-4209 or by e-mail at pdr@nrc.gov.

For the U.S. Nuclear Regulatory Commission.
Dated at Rockville, Maryland, this 1st day of August, 2003.
Kevin M. Ramsey,
Project Manager, Fuel Cycle Facilities Branch, Division of Fuel Cycle Safety and Safeguards, Office of Nuclear Material Safety and Safeguards.

[FR Doc. 03-20146 Filed 8-6-03; 8:45 am]

BILLING CODE 7950-01-P